DEPARTMENT OF AGRICULTURE

Forest Service

Record of Decision on the Woodpecker Project Area Final Environmental Impact Statement

AGENCY: Forest Service, USDA.

ACTION: Notice; record of decision.

SUMMARY: The USDA Forest Service, Tongass National Forest, has prepared the record of decision for the Woodpecker Project Area. The project area is located within the Petersburg Ranger District, on Mitkof Island, about 27 miles south of Petersburg, Alaska. Thomas Puchlerz, Forest Supervisor for the Tongass National Forest, has selected a modification of Alternative 6 from the final Environmental Impact Statement (final EIS, August 2001). This decision includes: (a) Harvest of approximately 5.4 million board feet of timber from approximately 400 acres, (b) parking turnouts, (c) improvement of dispersed recreation use areas, (d) closure of approximately ten miles of existing road for watershed improvement, and (e) adjustment of three small old-growth habitat reserves. Approximately 2.5 miles of temporary road will be constructed to access the timber. No new classified road designed for long-term use will be constructed. An existing log transfer facility will be used.

DATES: The legal notice of this decision was published in the Juneau Empire, the newspaper of record, published in Juneau, Alaska, on January 23, 2003. This began the 45-day appeal period, which will close on Monday, March 10, 2003. This decision may be implemented no sooner than 5 business days after close of the appeal period, if no appeal is received. If an appeal is received, this decision may be implemented no sooner than 15 days following disposition of the appeal.

ADDRESSES: Requests for copies of the record of decision of final EIS may be directed to: Cynthia Sever, Petersburg Ranger District, P.O. Box 1328, Petersburg, Alaska 99833, Phone (907) 772-3871; fax (907) 772-5995; or e-mail csever@fs.fed.us. The Responsible Official is Thomas Puchlerz, Forest Supervisor, Tongass National Forest, 648 Mission Street, Ketchikan, AK 99901. The Regional Forester is the Appeal Deciding Officer. Written notices of appeal must be addressed to: Regional Forester, Alaska Region, USDA, Forest Service, P.O. Box 21628, Juneau, AK 99802-1628.

FOR FURTHER INFORMATION CONTACT: Requests for further information concerning the final EIS or the record of decision may be directed to Patricia Grantham, District Ranger, or Cynthia Sever, Interdisciplinary Team Leader, Petersburg Ranger District, 907-772-3871. Copies of the record of decision have been mailed directly to those people who requested to be on the project mailing list. Additional copies may be obtained from the Petersburg Ranger District or reviewed at public libraries throughout southeast Alaska. The record of decision is also posted on the Tongass National Forest website at www.fs.fed.us/r10/tongass.

SUPPLEMENTARY INFORMATION: Background: The August 13, 2001 record of decision for the Woodpecker Project Area was reversed on appeal because of some data discrepancies in the final EIS. A supplemental information report was prepared to determine whether these discrepancies influenced the effects analysis. This review concluded that only minor changes to information in the final EIS were necessary, and that the analysis presented in the final EIS was valid. The modifications to Alternative 6 for this record of decision were made to comply with the injunction issued on April 26, 2002, by the U.S. District Court, District of Alaska, in Sierra Club v. Rey (J00-0009 CV (JKS)). The Selected Alternative includes timber harvest and road construction only within roaded areas, as defined by the court. This decision is subject to administrative review (appeal) pursuant to 36 CFR part 215. The legal notice of this decision was published in the Juneau Empire, the newspaper of record, published in Juneau, Alaska, on January 23, 2003. The 45-day appeal filing period will close on Monday, March 10, 2003. A written notice of appeal that includes sufficient evidence of why this decision should be changed and requirements of 36 CFR part 215 must be postmarked by this date and filed with the Appeal Deciding Officer: Regional Forester, Alaska Region, USDA Forest Service, PO Box 21628, Juneau, AK 99802-1628.

Responsible Official: Thomas Puchlerz, Forest Supervisor, Tongass National Forest, Federal Building, Ketchikan, Alaska 99901, is the responsible official.

(Authority: 40 CFR 1505.2 and 1506.6; Forest Service Handbook 1909.15, section 28)

Dated: January 21, 2003.
Thomas Puchlerz,
Forest Supervisor.

[FR Doc. 03-1822 Filed 1-27-03; 8:45 am]

BILLING CODE 3410-11-M